FEDERAL RESERVE SYSTEM

Change in Bank Control Notices; Formations of, Acquisitions by, and Mergers of Bank Holding Companies; Correction

This notice corrects a notice (FR Doc. 2016-09498) published on page 24101 of the issue for Monday, April 25, 2016.

Under the Federal Reserve Bank of New York heading, the entry for Basswood Capital Management, LLC, New York, New York, is revised to read as follows:

1. Basswood Capital Management, LLC, New York, New York; funds for which Basswood Partners, LLC serves as General Partner and for which Basswood Capital Management, LLC serves as Investment Manager (Basswood Opportunity Partners, LP; Basswood Financial Fund, LP; Basswood Financial Long Only Fund, LP); a fund for which Basswood Enhanced Long Short GP, LLC serves as General Partner and for which Basswood Capital Management, LLC serves as Investment Manager (Basswood Enhanced Long Short Fund, LP); funds for which Basswood Capital Management, LLC serves as Investment Manager (Basswood Opportunity Fund, Inc.; Basswood Financial Fund, Inc.; BCM Select Equity I Master, Ltd.; Main Street Master, Ltd.); Basswood Capital Management, LLC as investment adviser to two managed accounts; Matthew Lindenbaum, and Bennett Lindenbaum, both of New York City, New York; to collectively acquire voting shares of Suffolk Bancorp, and thereby indirectly acquire Suffolk County National Bank, both in Riverhead, New York.

Comments on this application must be received by May 10, 2016.

Board of Governors of the Federal Reserve System, April 28, 2016.
Michael J. Lewandowski,
Associate Secretary of the Board.

[FR Doc. 2016-10330 Filed 5-2-16; 8:45 am]

BILLING CODE 6210-01-P